DEPARTMENT OF THE INTERIOR

National Park Service

National Capital Region; Environmental Assessment for the Proposed Construction of Permanent Security Improvements at the Washington Monument in Washington, DC

ACTION: Notice of availability of an Environmental Assessment.

SUMMARY: Pursuant to the Council of Environmental Quality regulations and National Park Service policy, this notice announces the availability of an environmental assessment (EA) for the proposed construction of permanent security improvements that include a visitor access/screening facility, vehicle barrier system, and general improvements of the grounds at the Washington Monument in Washington, D.C.

DATES: There will be a 30-day public review period for comment on this document. Comments on the EA should be received no later than May 23, 2002.

ADDRESSES: Comments on the EA should be submitted to: Mr. Arnold Goldstein, Superintendent, National Capital Parks-Central, National Capital Region, National Park Service. It is recommended, due to delays in mail delivery, that comments be provided by telefax at (202) 426-1835 or by email at NACC—Superintendent@nps.gov. Comments may also be delivered by messenger to 900 Ohio Drive, SW., Washington, DC 20242. Public reading copies of the EA will be available for review on the National Park Service website at http://www.nps.gov/wamo, at the National Capital Region, National Park Service, 1100 Ohio Drive, SW., First Floor Lobby, Washington, DC, 20242, and at the National Capital Planning Commission, 401 9th Street, NW., North Lobby, Suite 500, Washington, DC 20576. For further information contact: Ms. Sally Blumenthal, Deputy Associate Regional Director, National Capital Region, National Park Service, 1100 Ohio Drive, SW., Washington, DC 20242, Telephone: (202) 619-7025. A limited number of copies of the EA are available on request.

SUPPLEMENTARY INFORMATION: The EA will help National Park Service decisionmakers meet the objectives for the design and construction of a new permanent screening facility and vehicle barrier system. The objectives include improvement of security, improvement of visitor flow, provision of outdoor recreation opportunities, preservation of cultural landscape quality, improvement of accessibility, and preservation of the Monument structure and the Monument Lodge.

The existing concrete jersey barriers and the interim visitor security facility obstruct important vistas to and from the Monument and Grounds, intrude on the setting of this important national icon, and disrupt pedestrian circulation patterns. In addition, the current system requires heavy personnel staffing by the U.S. Park Police.

This EA addresses the environmental consequences of two build alternatives, as well as the impacts associated with maintaining the status quo. Alternative A (Below-Grade Alternative); Alternative B (Above Grade Alternative), and Alternative C (No Action Alternative). The two build alternatives are intended to fulfill the security goals and objectives for the Monument through three types of physical improvements: (1) Visitor screening facility, (2) vehicle barrier system, and (3) Grounds improvements.

Alternative A includes an underground screening facility and passageway to the Monument and a landscaped vehicle barrier system of walled terraces, a screening berm and pathways. The Monument Lodge would be rehabilitated as the portal to the new underground facility. A graded system of walled terraces would replace the concrete jersey vehicle barriers. Alternative B includes a visitor screening facility located above-ground near the Sylvan Theater, away from the primary views and vistas. Visitors would travel from the Theater in an above-ground, double-fenced security pathway to the Monument. Security bollards would be placed at the 1-1/4-mile perimeter of the Grounds to provide a barrier system that would stop moving vehicles, replacing the existing concrete jersey vehicle barriers. The parking lot at 16th Street would be removed in both Alternatives A and B, which would allow the German-American Friendship Garden to be completed. Alternative C would retain the existing structures and elements of the Washington Monument Grounds in their existing use and condition. There would be no new development or reconfiguration of facilities, and the parking lot on the northern portion of the Grounds at 16th Street would remain.

This EA seeks to determine the potential impacts and recommended mitigation measures related to the proposed action or to no action. The EA addresses short-term construction-related impacts and long-term operational effects, as well as the cumulative impacts that would result from this and other projects within the study area. The National Park Service has prepared this EA in compliance with the National Environmental Policy Act, the Council on Environmental Quality regulations implementing that Act, the National Historic Preservation Act, and the National Park Service Director's Order-12. This EPA was prepared in cooperation with the National Capital Planning Commission.

Dated: April 24, 2002.
Terry R. Carlstrom,
Regional Director, National Capital Region.

[FR Doc. 02-12273 Filed 5-15-02; 8:45 am]

BILLING CODE 4310-70-M